FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Airsealand Express Incorporated, 2680 Donegal Avenue, So. San Francisco, CA 94080. Officers: Isidro H. Protasio, President (Qualifying Individual), Randall N. Harris, Chairman.

Eaglewings Freight Services Inc., 35 Lambert Street, Roslyn Heights, NY 11577. Officers: Ying Huang (Irene), President (Qualifying Individual), Su Hwa Lin, Secretary.

Pas Cargo USA Inc., 16351 SW 23rd Street, Miramar, FL 33027. Officers: Dirk Chee-A-Tow, President (Qualifying Individual), Jeanine Chee-A-Tow, Vice President.

Pacific-Net Logistics (NYC) Inc., 151-02 132 Avenue (AIP), Jamaica, NY 11434. Officers: Chi Ming Szeto, President (Qualifying Individual), Tony Yet Yu Ng, Secretary.

Gava Italian Airfreight Consolidators, Inc. dba Gava International Freight Consolidators, Inc., 419 S. Hindry Avenue, Unit B, Inglewood, CA 90301. Officers: Giovanni Valente, Vice President (Qualifying Individual), Mario G. Hummel, President/CEO.

ARC Air Logistics, Inc., 9133 S. La Cienega Blvd., Suite 170, Inglewood, CA 90301. Officer: Anthony Rimland, Managing Director (Qualifying Individual).

Dominicana Air & Ocean Freight, Corp., 1332 N.W. 36 Street, Miami, FL 33142. Officers: Isabel Ramirez, Vice President (Qualifying Individual), Denise A. Zitz, President.

International Ocean Logistics, 9390 NW 23rd Street, Pembroke Pines, FL 33024. Officer: Elizeth R. Goncalves, President (Qualifying Individual).

Prime Holidays Tour & Car Rentals Inc. dba Ultimate Solutions, 6130 Edgewater Drive, Suite H, Orlando, FL 33147. Officers: Marie Y. Baity, Director/Secretary (Qualifying Individual), Byron C. Gardner, President.

Non-Vessel Operating Common Carrier and Ocean Freight Forwarder Transportation Intermediary Applicants

Eastern Network Express, Inc. dba Eastern Container Line, One Cross Island Plaza, Suite 111, Rosedale, NY 11422. Officer: Louisa Chiu, President (Qualifying Individual).

G.P.R. International, Inc., 8347 NW 68th Street, Miami, FL 33166. Officer: Roberto Diaz, President (Qualifying Individual).

Rende Li, 2794 Covered Bridge Road, Merrick, NY 11566. Sole Proprietor.

Global Quality Logistics, Inc., 18411 Crenshaw Blvd., Suite 210, Torrance, CA 90504. Officers: Daniel Lim, CEO (Qualifying Individual), Sumddi Kusuma, Director.

Brit-Am Logistic Management Services, Inc., 6425 Woodstone Way, Morrow, GA 30260. Officer: Carylon E. Simpson-Graves, President.

Cross Trans Service USA, Inc., 1480 Elmhurst Road, Elk Grove Village, IL 60007. Officers: Bonifacio Salas, Vice President (Qualifying Individual), Kurt Konodi-Floch, CEO.

Ocean Freight Forwarder—Ocean Transportation Intermediary Applicants

PK Logistics, Inc., 114 Maple Avenue, Red Bank, NJ 07701. Officers: Paul William Kelley, CEO/President (Qualifying Individual), Kristina Katja Kelley, Vice President.

Fox Freight Forwarders, Inc., 3727 NW 52nd Street, Miami, FL 33142. Officers: Maria S. Hugues, President (Qualifying Individual), Maria J. Boue, Vice President.

Universal Freight Forwarders Ltd., 12820 NE 185th Court, Bothell, WA 98011. Officers: Irmgard S. Harris, Gen. Manager/President (Qualifying Individual), George E. Tylen, Vice President.

TFS Acquisition Corp., 7959 NW 21 Street, Miami, FL 33122. Officers: Laura Almaguer, Vice President (Qualifying Individual), Richard Schuler, President.

ARK Technology, Inc. dba ARK International, 14545 Valley View Ave. #G, Santa Fe Springs, CA 90670. Officer: Gilbert Ji, President (Qualifying Individual).

Dolphin Call USA Inc., 321½ East First Street, Suite 200, Los Angeles, CA 90012-3920. Officer: Yasuyuki Kitajima, President (Qualifying Individual).

Shiprotectors International, 1730 Ximeno Avenue, Suite #12, Long Beach, CA 90815. Officer: Kevin J. Gregory, Managing Director (Qualifying Individual).

Dated: July 19, 2002.
Theodore A. Zook,
Assistant Secretary.

[FR Doc. 02-18749 Filed 7-24-02; 8:45 am]

BILLING CODE 6730-01-P